SMALL BUSINESS ADMINISTRATION

Data Collection Available for Public Comments

AGENCY: Small Business Administration.

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before May 17, 2022.

ADDRESSES: Send all comments to Erick Page-Littleford, Technology Policy Analyst, Office of Innovation & Technology, Small Business Administration, Washington, DC 20416.

FOR FURTHER INFORMATION CONTACT: Erick Page-Littleford, Technology Policy Analyst, Office of Innovation & Technology, technology@sba.gov, or Curtis B. Rich, Management Analyst, 202-205-7030, curtis.rich@sba.gov.

SUPPLEMENTARY INFORMATION: The Small Business Act, as amended by the Small Business Innovation Research (SBIR) and Small Business Technology Transfer Program (STTR) Reauthorization Act of 2011, requires SBA to collect regarding the SBIR and STTR awards made by the federal agencies that participate in those programs. SBA is required to maintain this information in searchable electronic databases and also to report the information to Congress annually.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0356.

Title: Small Business Innovation Research (SBIR) and Small Business Technology Transfer (STTR) SBIR.gov Database.

Description of Respondents: SBA to collect regarding the SBIR and STTR awards made by the federal agencies.

Form Number: N/A.

Total Estimated Annual Responses: 14,500.

Total Estimated Annual Hour Burden: 49,500.

Curtis Rich,
Management Analyst.

[FR Doc. 2022-05743 Filed 3-17-22; 8:45 am]

BILLING CODE 8026-03-P